DEPARTMENT OF THE INTERIOR

Bureau of Indian Affairs

[178A2100DD/AAKC001030/A0A501010.999900 253G]

Land Acquisitions; The Cherokee Nation

AGENCY: Bureau of Indian Affairs, Interior.

ACTION: Notice.

SUMMARY: The Principal Deputy Assistant Secretary—Indian Affairs made a final agency determination to acquire 45.92 acres, more or less, located in Cherokee County, Oklahoma (Cherokee Springs Site) in trust for the Cherokee Nation for gaming and other purposes on January 19, 2017.

FOR FURTHER INFORMATION CONTACT: Ms. Paula L. Hart, Director, Office of Indian Gaming, Bureau of Indian Affairs, MS-3657 MIB, 1849 C Street NW., Washington, DC 20240, telephone (202) 219-4066.

SUPPLEMENTARY INFORMATION: This notice is published in the exercise of authority delegated by the Secretary of the Interior to the Principal Deputy Assistant Secretary—Indian Affairs by 209 Departmental Manual 8.1, and is published to comply with the requirements of 25 CFR 151.12 (c)(2)(ii) that notice of the decision to acquire land in trust be promptly provided in the Federal Register.

On January 19, 2017, the Principal Deputy Assistant Secretary—Indian Affairs issued a decision to accept the Cherokee Springs Site, consisting of approximately 45.92 acres, more or less, of land in trust for the Nation, under the authority of the Indian Reorganization Act, 25 U.S.C. 5108. The Principal Deputy Assistant Secretary—Indian Affairs determined that the Nation's request also meets the requirements of the Indian Gaming Regulatory Act's “Oklahoma exception,” 25 U.S.C. 2719(a)(2)(A)(i), to the general prohibition contained in 25 U.S.C. 2719(a) on gaming on lands acquired in trust after October 17, 1988.

The Principal Deputy Assistant Secretary—Indian Affairs, on behalf of the Secretary of the Interior, will immediately acquire title to the Cherokee Springs Site in the name of the United States of America in trust for the Nation upon fulfillment of Departmental requirements.

The 45.92 acres, more or less, are located in Cherokee County, Oklahoma, and are described as follows:

Indian Meridian, Oklahoma Township 16 North, Range 22 East

Section 9 A tract of land situated in the SE1/4 and in the S1/2 S1/2 NE1/4 of Section 9, Township 16 North, Range 22 East of the Indian Meridian, Cherokee County, Oklahoma, being a portion of that parcel of land conveyed to Cherokee Nation Property Management, LLC in Document No. I-2012-008705 filed December 28, 2012 in Book 1055 at Pages 778-779 in the official records of the Cherokee County Clerk, said tract being more particularly described as follows:

Commencing at the Southeast corner of said SE1/4, marked with a Mag Nail;

Thence, N. 89° 52′ 00″ W. along the South boundary of said Section 9, a distance of 1734.91 feet;

Thence, N. 0° 05′ 50″ W., a distance of 758.57 feet to a 3/8″ rebar capped Chaffin LS 1243 to the true POINT OF BEGINNING;

Thence, N. 0°05′50″ W., a distance of 2117.10 feet to a 3/8″ rebar capped Chaffin LS 1243;

Thence, N. 89°54′10″ E., a distance of 1083.04 feet to a 3/8″ rebar capped Chaffin LS 1243;

Thence, S. 0°04′58″ W., a distance of 1215.47 feet to a 3/8″ rebar capped Chaffin LS 1243.

Dated: June 12, 2017.
Michael S. Black,
Acting Assistant Secretary—Indian Affairs.

[FR Doc. 2017-16906 Filed 8-10-17; 8:45 am]

BILLING CODE 4337-15-P